DEPARTMENT OF ENERGY

Federal Energy Regulatory Commission

Pacific Connector Gas Pipeline, LP (Docket Nos. CP07-441-000, CP07-442-000, and CP07-443-000) and Jordan Cove Energy Project, L.P. (Docket No. CP07-444-000); Notice of Application for Certificate of Public Convenience and Necessity and Section 3 Authorization

September 13, 2007.

Take notice that on September 4, 2007, Pacific Connector Gas Pipeline, LP, 295 Chipeta Way, Salt Lake City, Utah 84108, filed in Docket Nos. CP07-441-000, CP07-442-000, and CP07-443-000, an application under section 7 of the Natural Gas Act (NGA) and Parts 157 and 284 of the Federal Energy Regulatory Commission's (Commission) regulations for, respectively, a certificate of public convenience and necessity authorizing the construction and operation of the Pacific Connector Gas Pipeline (Pacific Connector); a blanket certificate to perform certain routine activities and operations; and a blanket certificate to provide open access firm transportation services. The proposed pipeline is approximately 230-miles long and 36 inches in diameter which will transport up to 1 Billion cubic feet (Bcf) per day of regasified liquefied natural gas (LNG) from the Jordan Cove Energy Project, L.P.'s Jordan Cove LNG Import Terminal (Jordan Cove LNG) in Coos County, Oregon to interconnects with Northwest Pipeline Company in Douglas County, Oregon, Avista Corporation in Jackson County, Oregon and with Pacific Gas and Electric Company, Gas Transmission Northwest Corporation and Tuscarora Gas Transmission Company at the terminus of the system in Klamath County, Oregon.

Also take notice that on September 4, 2007, Jordan Cove Energy Project, L.P., 125 Central Avenue, Suite 380, Coos Bay, Oregon 97402, filed with the Commission, in Docket No. CP07-444-000, an application under section 3 of the NGA and Part 153 of the Commission's regulations for authorization to site, construct, and operate a liquefied natural gas import terminal and associated storage facilities in Coos County, Oregon, for the purpose of importing LNG into the United States.

The Pacific Connector and Jordan Cove LNG projects are more fully described as set forth in the applications that are on file with the Commission and open to public inspection. The instant filings may be also viewed on the Web at http://www.ferc.gov using the “eLibrary” link. Enter the docket number excluding the last three digits in the docket number field to access the document. For assistance, call (866) 208-3676 or TTY, (202) 502-8659

Any questions regarding the applications should be directed to: Beth L. Webb, Dickstein Shapiro, LLP, 1825 Eye Street, NW., Washington, DC 20006, (202) 420-2200 for Jordan Cove LNG; and Teresa Silcox Torrey/Lynn Dahlberg, Pacific Connector Gas Pipeline, LLC, P.O. Box 58900, Salt Lake City, Utah 84158-0900, (801) 584-7051.

On May 1, 2006, the Commission staff granted Jordan Cove LNG's and Pacific Connector's requests to utilize the Pre-Filing process and assigned Docket No. PF06-25-000 to staff activities involving the Jordan Cove LNG project and Docket No. PF06-26-000 to Pacific Connector project. Now, as of the filing of the September 4, 2007 applications, the Pre-Filing Process for these projects has ended. From this time forward, these proceedings will be conducted in Docket Nos. CP07-441-000, CP07-442-000, CP07-443 -000, and CP07-444-000 as noted in the caption of this Notice.

Pursuant to section 157.9 of the Commission's rules, 18 CFR 157.9, and to ensure compliance with the National Environmental Policy Act, 42 U.S.C. 4321-4347, the Commission staff will issue a Notice of Schedule for Environmental Review within 90 days of the date of this Notice. The Notice of Schedule for Environmental Review will indicate, among other milestones, the anticipated date for the Commission staff's issuance of the final environmental impact statement (FEIS) for the proposal. The Notice will also alert other agencies of the requirement to complete necessary reviews and authorizations within 90 days of the date of issuance of the Commission staff's FEIS.

There are two ways to become involved in the Commission's review of this project. First, any person wishing to obtain legal status by becoming a party to the proceedings for this project should, on or before the below listed comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

Motions to intervene, protests and comments may be filed electronically via the Internet in lieu of paper; see, 18 CFR 385.2001(a)(1)(iii) and the instructions on the Commission's Web site under the “e-Filing” link. The Commission strongly encourages electronic filings.

Comment Date: October 4, 2007.

Kimberly D. Bose,
Secretary.

[FR Doc. E7-18426 Filed 9-18-07; 8:45 am]

BILLING CODE 6717-01-P